DEPARTMENT OF HOUSING AND URBAN DEVELOPMENT

[Docket No. FR-5300-C-24A]

Notice of Availability: Notice of Funding Availability (NOFA) for HUD's Fiscal Year (FY) 2009 HOPE VI Main Street Grants Program—Extension of Application Deadline Date

AGENCY: Office of the Assistant Secretary for Public and Indian Housing, HUD.

ACTION: Notice: Extension of Application Deadline Date.

SUMMARY: On November 11, 2009, HUD posted its HOPE VI Main Street Grants program NOFA for FY2009 (“NOFA”). The NOFA makes available approximately $4 million in assistance for the HOPE VI Main Street Grants program, which was funded through the Omnibus Appropriations Act, 2009 (Pub. L. 111-8, approved March 11, 2009). The NOFA provides statutory and regulatory requirements, threshold requirements, and rating factors applicable to funding of grant applications. HUD published a notice announcing the availability of the NOFA in the Federal Register on November 18, 2009. Today's notice announces that HUD is extending the deadline date for applications for the HOPE VI Main Street NOFA from January 20, 2010 to March 3, 2010.

FOR FURTHER INFORMATION CONTACT: For further information regarding HUD's FY 2009 HOPE VI Main Street NOFA, contact the Office of Public Housing Investments, Office of Public and Indian Housing, Department of Housing and Urban Development, 451 7th Street, SW., Room 4130, Washington, DC 20410-5000 or e-mail Mr. Lawrence Gnessin at lawrence.gnessin@hud.gov.

SUPPLEMENTARY INFORMATION: On November 11, 2009, HUD posted its FY 2009 HOPE VI Main Street NOFA on its Web site (http://www.HUD.gov) and on Grants.gov. HUD published a notice in the Federal Register announcing the availability of the NOFA on its Web site on November 18, 2009 (74 FR 59582). The HOPE VI Main Street NOFA announced the availability of approximately $4 million to provide grants to small communities to assist in the rejuvenation of an historic or traditional central business district or “Main Street” area by replacing unused commercial space in buildings with affordable housing units.

The NOFA, as posted on the HUD Web site and Grants.gov, established January 20, 2010 as the application deadline date. In order to increase eligible applications and further competition, HUD has decided to extend the deadline for applications to March 3, 2010. Because of this extension, the Estimated Grant Award Date is extended to April 2, 2010.

Dated: January 15, 2010.
Sandra B. Henriquez,
Assistant Secretary for Public and Indian Housing.

[FR Doc. 2010-1177 Filed 1-21-10; 8:45 am]

BILLING CODE 4210-67-P